DEPARTMENT OF ENERGY

Federal Energy Regulatory Commission

[Docket No. EG05-17-000, et al.]

Metcalf Energy Center, LLC, et al.; Electric Rate and Corporate Filings

October 28, 2004.

The following filings have been made with the Commission. The filings are listed in ascending order within each docket classification.

1. Metcalf Energy Center, LLC

[Docket No. EG05-17-000]

Take notice that on October 25, 2004, Metcalf Energy Center, LLC (Applicant), filed with the Commission an application for determination of exempt wholesale generator status pursuant to part 365 of the Commission regulations.

Applicant states that it will own and operate a nominal 600 megawatt power generation facility to be located in San Jose, Santa Clara County, California. Applicant further states that copies of the application were served upon the United States Securities and Exchange Commission and California Public Utilities Commission.

Comment Date: 5 p.m. Eastern Time on November 15, 2004.

2. BS Energy LP

[Docket No. ER04-1082-001]

Take notice that on October 21, 2004, BS Energy LP (BSELP) submitted an amendment to its application filed on August 2, 2004, in Docket No. ER04-1082-000—requesting approval of BS Energy LP Rate Schedule FERC No. 1, the granting of certain blanket approvals, including the authority to sell electricity at market-based rates, and requested the waiver of certain Commission regulations.

Comment Date: 5 p.m. Eastern Time on November 12, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Magalie R. Salas,
Secretary.

[FR Doc. E4-3045 Filed 11-5-04; 8:45 am]

BILLING CODE 6717-01-P